FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or by contacting the Office of Agreements ((202) 523-5793 or tradeanalysis@fmc.gov).

Agreement No.: 011830-007.

Title: CMA CGM-HL-APL Indamex Cross Space Charter, Sailing and Cooperative Working Agreement.

Parties: APL Co. PTE Ltd./American President Lines, Ltd.; CMA CGM, S.A.; and Hapag-Lloyd AG.

Filing Party: Wayne R. Rohde, Esq., Sher & Blackwell, LLP, 1850 M Street, NW., Suite 900, Washington, DC 20036.

Synopsis: The amendment would add Nippon Yusen Kaisha and Orient Overseas container Line Limited as parties to the agreement; reflect the withdrawal of APL Co. PTE Ltd. as a party to the agreement after the first service cycle; reduce the geographic scope in SE Asia; amend the duration of the agreement; and rename and restate the agreement reflecting other miscellaneous changes.

Agreement No.: 012046.

Title: MSC/Hapag-Lloyd Space Charter Agreement.

Parties: Hapag-Lloyd AG; and Mediterranean Shipping Co. S.A. (“MSC”).

Filing Party: Wayne R. Rohde, Esq., Sher & Blackwell LLP, 1850 M Street, NW., Suite 900, Washington, DC 20036.

Synopsis: The agreement would authorize MSC to charter space to Hapag-Lloyd in the trade between U.S. Atlantic and Gulf Coasts and ports in Bahamas, the Dominican Republic, Mexico, Argentina, Brazil, Uruguay and Venezuela.

By order of the Federal Maritime Commission.
Dated: June 6, 2008.
Karen V. Gregory,
Assistant Secretary.

[FR Doc. E8-13082 Filed 6-10-08; 8:45 am]

BILLING CODE 6730-01-P